DEPARTMENT OF DEFENSE

Defense Acquisition Regulations System

48 CFR Chapter 2

RIN 0750-AI46

Defense Federal Acquisition Regulation Supplement: Appendix F—Energy Receiving Reports (DFARS Case 2014-D024)

AGENCY: Defense Acquisition Regulations System, Department of Defense (DoD).

ACTION: Proposed rule.

SUMMARY: DoD is proposing to amend the Defense Federal Acquisition Regulation Supplement (DFARS) to identify the electronic Wide Area WorkFlow Energy Receiving Report as the equivalent of the paper forms for the Material Inspection and Receiving Report, for overland shipments, and the Material Inspection And Receiving Report, Tanker/Barge, for waterborne shipments.

DATES: Comments on the proposed rule should be submitted in writing to the address shown below on or before February 9, 2015, to be considered in the formation of a final rule.

ADDRESSES: Submit comments identified by DFARS Case 2014-D024, using any of the following methods:

○ Regulations.gov: http://www.regulations.gov. Submit comments via the Federal eRulemaking portal by entering “DFARS Case 2014-D024” under the heading “Enter keyword or ID” and selecting “Search.” Select the link “Submit a Comment” that corresponds with “DFARS Case 2014-D024.” Follow the instructions provided at the “Submit a Comment” screen. Please include your name, company name (if any), and “DFARS Case 2014-D024” on your attached document.

○ Email: osd.dfars@mail.mil. Include DFARS Case 2014-D024 in the subject line of the message.

○ Fax: 571-372-6094.

○ Mail: Defense Acquisition Regulations System, Attn: Ms. Jennifer Hawes, OUSD(AT&L)DPAP/DARS, Room 3B941, 3060 Defense Pentagon, Washington, DC 20301-3060.

Comments received generally will be posted without change to http://www.regulations.gov, including any personal information provided. To confirm receipt of your comment(s), please check www.regulations.gov, approximately two to three days after submission to verify posting (except allow 30 days for posting of comments submitted by mail).

FOR FURTHER INFORMATION CONTACT: Jennifer Hawes, Defense Acquisition Regulations System, OUSD(AT&L)DPAP/DARS, Room 3B941, 3060 Defense Pentagon, Washington, DC 20301-3060. Telephone 571-372-6115.

SUPPLEMENTARY INFORMATION:

I. Background

DoD is proposing to amend Appendix F of the DFARS to identify the Wide Area WorkFlow (WAWF) Energy Receiving Report as the electronic equivalent of the paper DD Form 250, Material Inspection and Receiving Report, for overland shipments and the DD Form 250-1, Material Inspection And Receiving Report, Tanker/Barge, for waterborne shipments. DFARS 232.7002, Policy, requires contractors to submit receiving reports in electronic form. DFARS 232.7003, Procedures, identifies the accepted electronic form for receiving reports as WAWF. In addition, the clause at DFARS 252.232-7003, Electronic Submission of Payment Requests and Receiving Reports, notifies contractors of the requirement to submit receiving reports using WAWF in nearly all cases.

II. Discussion

This proposed rule makes the following amendments to Appendix F:

• F-101(a) is amended to clarify that the WAWF Energy Receiving Report is the electronic equivalent of the paper DD Form 250 for overland shipments and the DD Form 250-1 for waterborne shipments.

• F-101(b) is amended to clarify that use of DD Form 250 “series documents” is on an exception basis and that the exceptions to WAWF are located at DFARS 232.7002(a) instead of 232.7003(a).

• The titles of subsections F-103(d) and F-104(b) of Appendix F, on the use and application of the DD Form 250-1, are amended to include the WAWF Energy Receiving Report.

• The title of F-301 is amended to include WAWF Energy Receiving Reports.

• F-301(b)(13) is amended to clarify that the three-character project code must be entered in the MARK FOR/CODE block of the receiving report, when the project code is provided in the contract.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

DoD does not expect this proposed rule to have a significant economic impact on a substantial number of small entities within the meaning of the Regulatory Flexibility Act, 5 U.S.C. 601, et seq., because the proposed rule merely identifies the Wide Area WorkFlow (WAWF) Energy Receiving Report as the electronic equivalent to the DD Form 250 for overland shipments and the DD Form 250-1 for waterborne shipments. However, an initial regulatory flexibility analysis has been performed and is summarized as follows:

DFARS 232.7002, Policy, requires contractors to submit payment and receiving reports in electronic form, and DFARS 232.7003, Procedures, identifies WAWF as the accepted electronic form. In addition, the clause at DFARS 252.232-7003, Electronic Submission of Payment Requests and Receiving Reports, requires payment requests and receiving reports using WAWF in nearly all cases. This rule proposes to amend Appendix F to identify the WAWF Energy Receiving Report as the electronic equivalent to the DD Form 250 for overland shipments and the DD Form 250-1 for waterborne shipments.

The proposed rule should have minimal impact on DoD contractors who are not exempt from using WAWF. Exempt classes of contracts are those that are listed under the seven categories of contracts at DFARS 232.7002, Policy. The exact number of small entities affected is unknown. The impact of the rule, however, is expected to be a positive one by permitting online electronic submission of WAWF Energy Receiving Reports in lieu of completing and submitting paper versions of the DD Forms 250 and 250-1.

The projected recordkeeping is limited to that required to properly record shipping and receiving information under Government contracts. Preparation of these records requires clerical and analytical skills to create the documents and input them into the electronic WAWF system.

The rule does not duplicate, overlap, or conflict with any other Federal rules. There are no known significant alternative approaches to the rule that would meet the requirements of the statute.

DoD invites comments from small business concerns and other interested parties on the expected impact of this rule on small entities.

DoD will also consider comments from small entities concerning the existing regulations in subparts affected by this rule in accordance with 5 U.S.C. 610. Interested parties must submit such comments separately and should cite 5 U.S.C. 610 (DFARS Case 2014-D024), in correspondence.

V. Paperwork Reduction Act

The rule contains information collection requirements that require the approval of the Office of Management and Budget under the Paperwork Reduction Act (44 U.S.C chapter 35). However, these changes to the DFARS do not impose additional information collection requirements to the paperwork burden previously approved under OMB Control Number 0704-0248, entitled Material Inspection and Receiving Report.

List of Subjects in 48 CFR Appendix F to Chapter 2

Government procurement.

Manuel Quinones,
Editor, Defense Acquisition Regulations System.

Therefore, 48 CFR chapter 2, subchapter I, is proposed to be amended in appendix F as follows:

1. The authority citation for appendix F to chapter 2 continues to read as follows:

Authority: 41 U.S.C. 1303 and 48 CFR chapter 1.

2. Amend appendix F to chapter 2:

a. In part 1, section F-101 by—

i. Revising paragraph (a); and

ii. Removing from paragraph (b) “DD Form 250 is” and adding “DD Form 250 series documents are” in its place; and removing “(see DFARS 232.7003(a))” and adding “(see DFARS 232.7002(a))” in its place.

b. In part 1, section F-103, amend paragraph (d) introductory text by removing “Use the DD Form 250-1” and adding “Use the WAWF Energy RR or the DD Form 250-1” in its place;

c. In part 1, section F-104, amend paragraph (b) introductory text by removing “DD Form 250-1” and adding “WAWF Energy RR or the DD Form 250-1” in its place;

d. Revise the part 3 heading; and

e. In part 3, section F-301, revise paragraph (b)(13).

The revisions read as follows:

Appendix F to Chapter 2—Material Inspection and Receiving Report

Part 1—Introduction

F-101 General.

(a) This appendix contains procedures and instructions for the use, preparation, and distribution of the Wide Area WorkFlow (WAWF) Receiving Report (RR), the WAWF Energy RR, and commercial shipping/packing lists used to document Government contract quality assurance. The WAWF RR is the electronic equivalent of the DD Form 250, Material Inspection and Receiving Report (MIRR). The WAWF Energy RR is the electronic equivalent of the DD Form 250 for over-land shipments and DD Form 250-1, Tanker/Barge Material Inspection and Receiving Report, for waterborne shipments.

* * * * *

Part 3—Preparation of the Wide Area Workflow (WAWF) Receiving Report (RR) and Energy RR

F-301—Preparation instructions.

* * * * *

(b) * * *

(13) MARKED FOR/CODE. Enter the code from the contract or shipping instructions. Only valid DoDAACs, MAPACs, or CAGE codes can be entered. Vendors should use the WAWF “Mark for Rep” and “Mark for Secondary” fields for textual marking information specified in the contract. Enter the three-character project code when provided in the contract or shipping instructions.

* * * * *

[FR Doc. 2014-28818 Filed 12-10-14; 8:45 am]

BILLING CODE 5001-06-P